DEPARTMENT OF VETERANS AFFAIRS

Notice of Availability of the Final Programmatic Environmental Impact Statement and National Historic Preservation Act Section 106 Consultation for the West Los Angeles Medical Center Campus Draft Master Plan for Improvements and Reconfiguration

AGENCY: Department of Veterans Affairs (VA).

ACTION: Notice of availability.

SUMMARY: VA announces the availability of the Final Programmatic Environmental Impact Statement (PEIS) and for the West Los Angeles Medical Center Campus Draft Master Plan for Improvements and Reconfiguration. The Final PEIS uses the substitution approach for integrating compliance with Section 106 of the National Historic Preservation Act (NHPA) of 1966 as amended (54 United States Code (U.S.C.) 300101 et seq.) and its implementing regulations (36 Code of Federal Regulations (CFR) part 800) into the National Environmental Policy Act (NEPA) process.

Pursuant to NEPA of 1969, as amended (42 U.S.C. 4321, et seq.), the Council on Environmental Quality's (CEQ) regulations for implementing the procedural provisions of NEPA (40 CFR parts 1500-1508), VA's NEPA regulations titled “Environmental Effects of the Department of Veterans Affairs Actions” (38 CFR part 26), and VA's “NEPA Interim Guidance for Projects” (VA 2010), VA has considered and responded to comments received on the Draft PEIS, which was issued on December 14, 2018.

DATES: VA will publish a Record of Decision (ROD) no sooner than 30 days after publication of the U.S. Environmental Protection Agency's Notice of Availability in the Federal Register.

Availability: Copies of the final PEIS and supporting technical documentation are available for public review at:

• VA Greater Los Angeles Healthcare System (GLAHS), West Los Angeles (WLA) VA Medical Center: 11301 Wilshire Boulevard, Los Angeles, CA 90073, Building 500/Room 6429K.

• On the website: www.losangeles.va.gov/masterplan/.

FOR FURTHER INFORMATION CONTACT: WLA PEIS team, VA Greater Los Angeles Healthcare System, at the address above, or by email to VHAGLAMasterPlan@va.gov.

SUPPLEMENTARY INFORMATION: The PEIS for the WLA Medical Center Campus Draft Master Plan for Improvements and Reconfiguration was developed pursuant to NEPA of 1969, as amended (42 U.S.C. 4321, et seq.), CEQ regulations for implementing the procedural provisions of NEPA (40 CFR parts 1500-1508), and VA's NEPA regulations titled “Environmental Effects of the Department of Veterans Affairs Actions” (38 CFR part 26).

VA is substituting the implementation and review procedures of section 102 of NEPA for consultation under section 106 of the NHPA. This process meets the integration intent of the NEPA regulations (40 CFR 1500.2(c) and 1502.25(a)) and the substitution intent of the NHPA regulations (36 CFR 800.8(c)). This process follows the joint CEQ-Advisory Council for Historic Preservation guidance for integrating NEPA and section 106 compliance (NEPA and NHPA: A Handbook for Integrating NEPA and Section 106, 2013). The PEIS includes identification and evaluation of impacts to historic properties. Formal consultation and identification and resolution of effects to historic properties are documented throughout the Final PEIS.

WLA is one of the largest medical center campuses in the VA system, providing a full range of medical services to eligible Veterans, including state-of-the-art hospital and outpatient care, rehabilitation, residential care, reintegration services, and long-term care. The draft Master Plan released on January 28, 2016, identified potential ways to reconfigure and redevelop the existing WLA Campus and provide additional housing to homeless Veterans to better serve the health care needs and distribution of Veterans in the GLAHS service area.

The PEIS identifies, analyzes, and documents the potential environmental, cultural, socioeconomic, and cumulative impacts of the proposed improvements and alternatives for redevelopment as set forth in the WLA draft Master Plan. VA has analyzed the environmental impacts of the Proposed Action/Preferred Alternative, a reasonable range of alternatives, and a No Action Alternative. This PEIS analyzes five alternatives for redevelopment of the WLA Campus, including a no action alternative as follows:

• Alternative A: Renovation of select existing buildings for same or new functions; up to 821 new units of supportive housing for homeless Veterans created;

• Alternative B: Demolition of select existing buildings and relocation of existing tenants and services to other remaining buildings; no new units of supportive housing for homeless Veterans created;

• Alternative C: Demolition and replacement of select existing buildings and additional construction of new buildings on open land; up to 1,622 new units of supportive housing for homeless Veterans created;

• Alternative D: Renovation or demolition/replacement of select existing buildings and additional construction of new buildings on open land; up to 1,622 new units of supportive housing for homeless Veterans created; or

• Alternative E: No action or the “status quo” alternative.

VA has identified Alternative D as the preferred alternative, which fully addresses the purpose and need of the Proposed Action.

The availability of the Draft PEIS was announced by the Environmental Protection Agency in the Federal Register (FR) on December 7, 2018 (83 FR 63161), followed by a VA Notice of Availability on December 14, 2018 (83 FR 64431). To allow the public an opportunity to review and comment on the draft PEIS, VA conducted three public meetings on January 15, 16, and 17, 2019. The original comment period was scheduled until January 29, 2019. VA extended the comment period until February 13, 2019, in response to requests from stakeholders and due to a lapse in appropriation of funding for certain Federal agencies during the original comment period.

VA responded to substantive comments received on the draft PEIS and such comments were incorporated into the Final PEIS. No significant new information was identified that necessitated a supplemental draft PEIS. After the final waiting period and based on the environmental analysis in the final PEIS, VA will prepare a ROD.

Signing Authority: The Secretary of Veterans Affairs, or designee, approved this document and authorized the undersigned to sign and submit the document to the Office of the Federal Register for publication electronically as an official document of the Department of Veterans Affairs. Robert L. Wilkie, Secretary, Department of Veterans Affairs, approved this document on June 20, 2019, for publication.

Dated: June 20, 2019.
Jeffrey M. Martin,
Assistant Director, Office of Regulation Policy & Management, Office of the Secretary, Department of Veterans Affairs.

[FR Doc. 2019-13533 Filed 6-25-19; 8:45 am]

BILLING CODE 8320-01-P